DEPARTMENT OF LABOR

Employment and Training Administration

Federal-State Unemployment Compensation Program: Availability of Benefit Accuracy Measurement Program Results

AGENCY: Employment and Training Administration (ETA), Labor.

ACTION: Notice of availability of the Unemployment Insurance (UI) Benefit Accuracy Measurement (BAM) program data for calendar year (CY) 2000.

SUMMARY: UI BAM program data for CY 2000 are published as part of the UI PERFORMS Annual Report, which is available on the ETA Office of Workforce Security Internet site— http://workforcesecurity.doleta.gov/unemploy/pdf/ar_00.pdf. The report was also distributed on compact disk to state agency administrators and the Department of Labor's Regional Administrators.

The UI PERFORMS Annual Report also includes data from the Benefits Timeliness and Quality and Tax Performance System programs. UI PERFORMS is the Department of Labor's management system for promoting continuous improvement in UI performance. UI PERFORMS performance measures are designated either Tier I, for which minimum performance criteria have been established, or Tier II, for which no minimum performance standards have been established. The BAM paid claims accuracy rate is a Tier II measure.

States are not required to publish their BAM program data; however, persons wanting clarification or additional information concerning a specific state's report are encouraged to contact the individuals identified in the following list.

FOR FURTHER INFORMATION CONTACT: Andrew Spisak, Office of Workforce Security, Division of Performance Management, 202-693-3196 (this is not a toll free number) or e-mail: aspisak@doleta.gov.

SUPPLEMENTARY INFORMATION: Each state's agency selects weekly random samples of UI benefit payments. The BAM program staff collects information about these payments by contacting claimants, employers, and third parties to determine whether the correct amounts of UI benefits were paid in accordance with state law, policy, and procedure. The results of the payment audits are recorded in electronic databases in each state and in the Department of Labor's National Office in Washington, DC.

The Department of Labor publishes results from the BAM investigations for the 50 states, the District of Columbia, and Puerto Rico. Five items are reported for each of the 52 jurisdictions participating in the BAM program: (1) The amount of UI benefits paid to the population of claimants; (2) the size of the BAM samples (number of completed cases); (3) the percentage of proper payments; (4) the percentage of overpayments; and (5) the percentage of underpayments in the population estimated from the BAM investigations. Ninety-five percent confidence intervals, which measure the precision of the payment accuracy estimates, are reported for each of the three percentages.

The CY 2000 UI PERFORMS Annual Report also includes background information and the data collection methodology for the BAM program. Graphs that display the distribution of overpayment rates for all states, national overpayment rates by year since CY 1988, and national cause and responsibility data for overpayments for the last eight years are also provided.

Readers are strongly cautioned that it may be misleading to compare one state's BAM overpayment and underpayment rates with the rates of other states. No two states' laws, regulations, and policies specifying eligibility conditions are identical. Differences among states in these conditions influence the potential for error. States with complex or strict eligibility conditions will tend to have higher overpayment rates than states with simpler provisions, because there is a greater chance that these conditions will not be met.

Signed at Washington, D.C., on August 20, 2001.
Grace A. Kilbane,
Administrator, Office of Workforce Security.

Unemployment Insurance Benefit Accuracy Measurement State Contacts

Alabama

Debbie C. Richbourg, Alabama Department of Industrial Relations, Benefits Unit, 649 Monroe Street, Montgomery, AL 36131, (334) 242-8130, email: drichbourg@dir.state.al.us

Alaska

Karen Van Dusseldorp, Q.C. Data Analyst, Alaska Department of Labor, P.O. Box 21149, Juneau, AK 99802-1149, (907) 465-5946 e-mail: karen_vandusseldorp@ labor.state.ak.us

Arizona

Maria Perez, Department of Economic Security, Employment Security Administration, Suite Code 701B4, 1789 West Jefferson, Phoenix, AZ 85005, (602) 542-0936, E-mail: mcperez@mail.de.state.az.us

Arkansas

Fred D. Carter, Program Operations Manager, Employment Security Department, P.O. Box 2981, Little Rock, AR 72203-2981, (501) 682-2142, e-mail: fred.carter.aesd@mail.state.ar.us

California

Suzanne Schroeder, Office of Constituent Affairs, Employment Development Department, P.O. Box 826880, Sacramento, CA 94280-0001, (916) 654-9029

Colorado

Greg Carson, UI Integrity Branch, Colorado Division Employment & Training, 251 E. 12th Avenue, Denver, CO 80203, (303) 318-9000 ext. 3580, email: greg.carson@state.co.us

Connecticut

Nancy Steffens, Director of Communications, Connecticut Department of Labor, 200 Folly Brook Boulevard, Wethersfield, CT 06109, (960) 263-6535, email: nancy.steffens@po.state.ct.us

Delaware

W. Thomas MacPherson, Director, Division of Unemployment Insurance, P.O. Box 9950, Wilmington, DE 19809-0950, (302) 761-8350, email: tmacpherson@state.de.us

District of Columbia

Roberta Bauer, Associate Director, Office of Compliance and Independent Monitoring, Department of Employment Services, 77 P Street, N.E., Washington, DC 20002, (202) 671-3076, email: Roberta.Bauer@dc.gov.org

Florida

Lucy D. Hadi, Deputy Director for Workforce Services, The Atkins Building, Suite 120, 1320 Executive Center Drive, Tallahassee, FL 32399-2250, (850) 488-7228, ext. 1119, e-mail: lucy.hadi@awi.stste.fl.us

Georgia

Paul D. Crawford, Chief, Quality Assurance, Georgia Department of Labor, 148 International Blvd., N.E., Suite 822, Atlanta, GA 30305, (404) 656-7242, email: Paul.Crawford@dol.state.ga.us

Hawaii

Linda Uesato, UI Administrator, Department of Labor and Industrial Relations, Unemployment Insurance Division, 830 Punchbowl Street, Room 325, Honolulu, HI 96813, (808) 586-9069, e-mail: pdce@aloha.net (attn: L. Uesato)

Idaho

Bob Davis, Benefit Payment Control Chief, Idaho Department of Employment, 317 Main Street, Boise, ID 83735, (208) 334-6305, e-mail: rdavis@labor.state.id.us

Illinois

Joseph Wojcik, Manager, Quality Assurance and Compliance Review, Illinois Department of Employment Security, 401 South State Street, Room 715, Chicago, IL 60605, (312) 793-1175, email: Jwojcik@ides.state.il.us

Indiana

Sandy Jessee, BAM Supervisor, Indiana Department of Workforce Development, 10 North Senate Avenue, Indianapolis, IN 46204, (317) 233-6676, e-mail: sjessee@dwd.state.in.us

Iowa

LeLoie Dutemple, Quality Control Supervisor, Iowa Workforce Development, Unemployment Insurance Services Division, 1000 East Grand Avenue, Des Moines, IA 50319-0209, (515) 281-8398, email: LeLoie.Dutemple@iwd.state.ia.us

Kansas

Richard Skinner, Quality Control Supervisor, Department of Human Resources, 401 SW Topeka Blvd., Topeka, KS 66603-3182, (785) 296-1967, email: raskinne@hr.state.ks.us

Kentucky

Mark Butcher, Unemployment Insurance Division, Dept. of Human Resources, 275 East Main Street, Frankfort, KY 40621, (502) 564-5057, email: MarkA.Butcher@mail.state.ky.us

Louisiana

Marianne Sullivan, Program Compliance Manager, Louisiana Department of Labor, P.O. Box 94094, Baton Rouge, LA 70804, (225) 342-7103, email: msullivan@ldol.state.la.us

Maine

Rhonda Webber, Department of Labor, PO Box 2014, Lewiston, ME 04241-2014, (207) 753-2885, email: Rhonda.Webber@state.me.us

Maryland

Thomas S. Wendel, Executive Director, Unemployment Insurance Division, Department of Labor, Licensing and Regulation, 1100 North Eutaw Street, Baltimore, MD 21201, (410) 767-2464, email: twendel@dllr.state.md.us,

Massachusetts

Rena Kottcamp, Assistant Director of Research, Division of Employment and Training, Charles F. Hurley Building, 19 Staniford Street, Boston, MA 02114-2589, (617) 626-6556, email: rkottcamp@detma.org

Michigan

Edward Updyke, Director, Office of Management Review, 7310 Woodward Avenue, 8th Floor East, Detroit, MI 48202, (313) 876-5908

or

Constance Luckett, Director, Quality Improvement and Assurance Section, 7310 Woodward Avenue, 8th Floor East, Detroit, MI 48202, (313) 876-6909

Minnesota

Barb Vickers, Minnesota Department of Economic Security, UI Benefits, 390 North Robert Street, 3rd Floor, St. Paul, MN 55101, (651) 296-5863, email: Barb.vickers@state.mn.us

Mississippi

Gary Harthcock, BAM Supervisor, Quality Control Unit, Employment Security Commission, P.O. Box 1699, Jackson, MS 39215-1699, (601) 961-7709

Missouri

Marilyn A. Hutcherson, Assistant Director, UI Operations, Missouri Division of Employment Security, P.O. Box 59, Jefferson City, MO 65104, (573) 751-3670, email: mhutcherson@central.dolir.state.mo.us

Montana

Joanne Loughney-Finstad, Bureau Chief, Montana Department of Labor and Industry, Program Support Bureau, 1728, 1327 Lockey, Helena, MT 59624-1728, (406) 444-2747, email: jloughney@state.mt.us

or

Ken Stephens, BAM Supervisor, Montana Department of Labor and Industry, Benefit Accuracy Measurement 4-B, 1728, 1327 Lockey, Helena, MT 59624-1728, (406) 444-2679, email: kstephens@state.mt.us

Nebraska

Ronald E. Joyce, UI Program Supervisor, BAM, 550 South 16th Street, Lincoln, NE 68506, (402) 471-9876, email: rjoyce@dol.state.ne.us

Nevada

Alex San Buenaventura, BAM Manager, State of Nevada, Department of Employment, Training and Rehabilitation, Employment Security Division, 2827 North Las Vegas Blvd., North Las Vegas, NV 89030, (702) 486-0143, email: alexsan@govmail.state.nv.us

New Hampshire

Patricia Nevers, Quality Control Unit, New Hampshire Employment Security, 32 South Main Street, Concord, NH 03301, (603) 228-4138, email: pnevers@nhes.state.nh.us

New Jersey

Michael P. Malloy, Assistant Commissioner, New Jersey Department of Labor, PO Box 110, Trenton, NJ 08625-0110, (609) 292-7586, email: Mmalloy@dol.state.nj.us

New Mexico

Teresa Baca, Supervisor, Quality Control, New Mexico Department of Labor, P.O. Box 1928, Albuquerque, NM 87103, (505) 841-8499, e-mail: Tbaca2@state.nm.us

New York

Louis M. Rosa, New York State Department of Labor, State Office Campus, UI Benefits Quality Control, Building 12, Room 257, Albany, NY 12240, (518) 457-3638, e-mail: USALMR@LABOR.STATE.NY.US

North Carolina

Stan Linszey, Employment Security Commission, Quality Control Unit, P.O. Box 25903, Raleigh, NC 27611, (919) 733-9104

North Dakota

Bill Steckler, Job Service North Dakota, 1000 E. Divide Ave., P. O. Box 5507, Bismarck, ND 58506-5507, (701) 328-3355, email: bsteckle@state.nd.us

Ohio

William J. Anderson, 145 S. Front Street, P.O. Box 1618, Columbus, OH 43216, (614) 995-5617, email: ANDERSON@odjfs.state.oh.us

Oklahoma

Terry W. McHale, BAM Supervisor, Oklahoma Employment Security Commission, 715 S. Service Road, Moore, OK 73160, (405) 793-7286

Oregon

James Mosley, Q.C. Supervisor, Oregon Employment Department, 875 Union Street, N.E., Salem, OR 97311, (503) 947-1684, e-mail: James.H.Mosley@state.or.us

Pennsylvania

Pete Cope, Director, Bureau of Unemployment Compensation, Benefits and Allowances, Department of Labor and Industry, Labor and Industry Building, Room 615, Seventh and Forster Streets, Harrisburg, PA 17121, (717) 787-3547, e-mail: pcope@dli.state.pa.us

Puerto Rico

Lucy Betancourt, QC Supervisor, Puerto Rico Right to Employment Administration, Metro Center Building, 5 Mayaguez Street, 10th Floor, Hato Rey, Puerto Rico 00918, (787) 754-5151 Ext. 2360

Rhode Island

Dr. Lee Arnold, Director, Department of Labor and Training, 1511 Pontiac Avenue, Bldg. 71, Cranston, RI 02920, (401) 462-8875

or

Raymond Filippone, Assistant Director of UI, Department of Labor and Training, 1511 Pontiac Avenue, Bldg. 71, Cranston, RI 02920, (401) 462-8415, e-mail: rfilippone@dlt.state.ri.us

South Carolina

Leland H. Teal, Employment Security Commission, Quality Control Unit, P.O. Box 8117, Columbia, SC 29202, (803) 737-3048, e-mail: lteal@sces.org

South Dakota

Dennis Angerhofer, Department of Labor, 420 South Roosevelt Street, Aberdeen, SD 57401, (605) 626-7644 email: dennis.angerhofer@state.sd.us

Tennessee

Albert West, Department of Employment Security, Quality Control, Davy Crockett Tower, 10th Floor, 500 James Robertson Parkway, Nashville, TN 37245-2700, (615) 741-3190 email: awest@mail.state.tn.us

Texas

Teresita La Rosa, Benefit Accuracy Measurement Supervisor, Texas Workforce Commission, 101 East 15th Street, Room 300, Austin, TX 78778, (512) 936-3629, email: teresita.larosa@twc.state.tx.us

Utah

Jeff Bardin, Department of Employment Security, P.O. Box 778, Salt Lake City, UT 84110-0778, (801) 526-9537, email: jbardin@ws.state.ut.us

Vermont

Robert G. Herbst, Quality Control Supervisor, Vermont Department of Employment and Training, 200 Asa Bloomer Building, Rutland, VT 05701, (802) 786-8807, e-mail: rherbst@pop.det.state.vt.us

Virginia

F. W. Tucker, IV, Chief of Benefits, Virginia Employment Commission, P.O. Box 1358, Richmond, VA 23218-1358, (804) 786-3032, email: wtucker@vec.state.va.us

Washington

Annette Copeland, Assistant Commissioner, Unemployment Insurance Division, Washington Employment Security Department, P.O. Box 9046, Olympia, WA 98507-9046, (360) 902-9303, e-mail: acopeland@esd.wa.gov

West Virginia

Dennis D. Redden, West Virginia Bureau of Employment Programs, 112 California Avenue, Charleston, WV 25305, (304) 558-2256, email: redded@wvnet.edu

Wisconsin

John Mand, QC Section Chief, Wisconsin Department of Workforce Development, UI Division, 6083 North Teutonia Avenue, P.O. Box 09999, Milwaukee, WI 53209, (414) 438-2055, email: mandj@dwd.state.wi.us

Wyoming

Ellen Schreiner, U I Administrator, Wyoming Department of Employment, P.O. Box 2760, Casper, WY 82602-2760, (307) 235-3253, email: eschre@state.wy.us

[FR Doc. 01-21576 Filed 8-24-01; 8:45 am]

BILLING CODE 4510-30-P